FEDERAL EMERGENCY MANAGEMENT AGENCY

Emergency Management Performance Grants

AGENCY: Federal Emergency Management Agency (FEMA).

ACTION: Notice of change to cost share policy.

SUMMARY: We (FEMA) are standardizing the cost share for the Emergency Management Performance Grant in order to bring about a fair and equitable distribution of grant funds and cost-share requirements among the States.

DATES: The cost share change is effective October 1, 2000 for FY 2001 grants.

FOR FURTHER INFORMATION CONTACT: Jonna M. Long, Federal Emergency Management Agency, 500 C Street SW., room 717, Washington, DC 20472, telephone (202) 646-7057; facsimile (202) 646-4157; or email jonna.long@fema.gov.

SUPPLEMENTARY INFORMATION:

Background

In FY 2000, we consolidated funding for certain non-disaster programs into the Emergency Management Performance Grant (EMPG). Programs consolidated include State and Local Assistance (SLA); Superfund Amendments and Reauthorization Act (SARA) Title III; Mitigation Assistance Program (MAP); Disaster Preparedness Improvement Grants (DPIG); Pre-disaster Mitigation (Project Impact) to States; and Terrorism Consequence Management Preparedness Assistance (TCMPA).

We offered the grants in FY 2000 at composite cost shares based on the cost share policies associated with the programs consolidated into the EMPG. The composite cost shares for the non-terrorism portion of the EMPG ranged from approximately 51 percent Federal/49 percent State to approximately 54 percent Federal/46 percent State. The TCMPA portion was 100 percent federally-funded.

The composite cost shares were dependent upon which of the six programs a State participated in before consolidation, and for some programs how many years a State participated. The result of this varied participation by States is that the consolidation process has the potential to lock-in an uneven distribution of cost-share requirements.

Phase-In Procedure

We used the composite cost shares during the transition from the multiple programs to the unified EMPG. To complete the transition, and in order to bring about a fair and reasonable distribution of the funds for emergency management, we are phasing in implementation of a Federal cost share of 50 percent that will apply equally to all States for the non-TCMPA portion of the EMPG. This will be more equitable and easier to manage than previously, both at the Federal and State levels. States will have a simpler and more predictable means of planning for their share of the costs of emergency management than now, which will help their long-term budgeting process. The complete phase-in of the standard cost share will take approximately four years, with some States arriving at the 50 percent level each year.

The TCMPA portion will continue to be 100 percent federally-funded.

FY 2001 Procedure

For FY 2001 grants, we will pay a cost share one percentage point less than the composite share that we paid in 2000. For example, if a particular State's EMPG was shared in FY 2000 at 52 percent Federal/48 percent State, in FY 2001 the grant will be shared at 51 percent Federal/49 percent State. Such phasing in of the standard cost share will ease the financial burden to the State (by avoiding too large an adjustment in any one year) and will enable it to budget better for outyear cost shares.

Authority: P.L. 106-74, the Department of Veterans Affairs and Housing and Urban Development, and Independent Agencies Appropriations Act, 2000, 113 Stat. 1086.

Dated: June 15, 2000.
Patricia A. English,
Acting Chief Financial Officer.

[FR Doc. 00-17365 Filed 7-7-00; 8:45 am]

BILLING CODE 6718-01-P